DEPARTMENT OF JUSTICE

National Institute of Corrections

Correction to Solicitation for a Cooperative Agreement—(Training Program Revision: National Sheriffs' Institute)

AGENCY: National Institute of Corrections, Department of Justice.

ACTION: Correction to Solicitation for a Corrective Agreement.

SUMMARY: Correction of Closing Date from June 24, 2002 to June 25, 2002.

The original announcement was printed in the Federal Register on May 7, 2002 (Volume 67, Number 88) under Notices. The title of the announcement is Training Program Revision: National Sheriffs' Institute—NIC Application Number 02J20.

The closing date was incorrectly stated on page 30727 as 4 p.m. on Tuesday, June 24, 2002. The correct date is 4 p.m. on Tuesday, June 25, 2002.

Dated: June 11, 2002.
Larry Solomon,
Deputy Director.

[FR Doc. 02-15176 Filed 6-14-02; 8:45 am]

BILLING CODE 4410-36-M